DEPARTMENT OF COMMERCE

International Trade Administration

[A-570-928]

Uncovered Innerspring Units From the People's Republic of China: Final Results of Antidumping Duty Administrative Review; 2011-2012

AGENCY: Import Administration, International Trade Administration, Department of Commerce.

SUMMARY: On September 17, 2012, the Department of Commerce (“the Department”) published in the Federal Register the preliminary results of the 2011-2012 administrative review of the antidumping duty order on uncovered innerspring units (“innersprings”) from the People's Republic of China (“PRC”) for the period February 1, 2011, through January 31, 2012.¹ The Department gave interested parties an opportunity to comment on the Preliminary Results. Based upon our analysis of the comments and information received, the Department has made changes to its treatment of Tai Wa Hong and its affiliates for the final results. The final dumping margin for this administrative review is listed in the “Final Results of Review” section below.

¹ See Uncovered Innerspring Units from the People's Republic of China: Antidumping Duty Administrative Review; 2011-2012, 77 FR 57072 (September 17, 2012) (“Preliminary Results”) and accompanying Decision Memorandum for Preliminary Results of 2011-2012 Antidumping Duty Administrative Review: Uncovered Innerspring Units from the People's Republic of China, dated September 10, 2012 (“Preliminary Decision Memorandum”).

DATES: Effective Date: March 22, 2013.

FOR FURTHER INFORMATION CONTACT: Steven Hampton, AD/CVD Operations, Office 9, Import Administration, International Trade Administration, U.S. Department of Commerce, 14th Street and Constitution Avenue NW., Washington, DC 20230; telephone: (202) 482-0116.

SUPPLEMENTARY INFORMATION:

Background

On September 17, 2012, the Department published in the Federal Register the Preliminary Results.² Interested parties were provided an opportunity to comment on the Preliminary Results.³ On October 17, 2012, the Department received a case brief from Leggett and Platt, Inc. (“Petitioner”).⁴ No other case or rebuttal briefs were filed by interested parties. On December 7, 2012, the Department partially extended the time limit for these final results by 30 days.⁵ On February 6, 2013, the Department fully extended the time limit for these final results by an additional 30 days to March 18, 2013.⁶

² See id.

³ See id., 77 FR at 57073.

⁴ See Petitioner's Case Brief, dated October 17, 2012.

⁵ See Memorandum to Christian Marsh, Deputy Assistant Secretary for Antidumping and Countervailing Duty Operations through James Doyle, Director, Office 9, Antidumping and Countervailing Duty Operations, from Steven Hampton, International Trade Compliance Analyst, Antidumping and Countervailing Duty Operations, Office 9, regarding Uncovered Innerspring Units from the People's Republic of China: Extension of Deadline for Final Results of Antidumping Duty Administrative Review, dated December 7, 2012.

⁶ See Memorandum to Christian Marsh, Deputy Assistant Secretary for Antidumping and Countervailing Duty Operations through James Doyle, Director, Office 9, Antidumping and Countervailing Duty Operations, from Steven Hampton, International Trade Compliance Analyst, Antidumping and Countervailing Duty Operations, Office 9, regarding Uncovered Innerspring Units from the People's Republic of China: Extension of Deadline for Final Results of Antidumping Duty Administrative Review, dated February 6, 2012.

Scope of the Order

The merchandise subject to the order is uncovered innerspring units.⁷ The product is currently classified under subheading 9404.29.9010 and has also been classified under subheadings 9404.10.0000, 7326.20.0070, 7320.20.5010, 7320.90.5010, or 7326.20.0071 of the Harmonized Tariff Schedule of the United States (“HTSUS”). The HTSUS subheadings are provided for convenience and customs purposes only; the written product description of the scope of the order is dispositive.⁸

⁷ See Memorandum to Paul Piquado, Assistant Secretary for Import Administration, from Christian Marsh, Deputy Assistant Secretary for Antidumping and Countervailing Duty Operations, entitled “Uncovered Innerspring Units from the People's Republic of China: Issues and Decision Memorandum for the Final Results of the 2011-2012 Administrative Review,” which is dated concurrently with this notice (“Issues and Decision Memorandum”) for a complete description of the Scope of the Order.

⁸ See Notice of Antidumping Duty Order: Uncovered Innerspring Units from the People's Republic of China, 74 FR 7661 (February 19, 2009).

Analysis of Comments Received

All issues raised in the case brief by Petitioner are addressed in the Issues and Decision Memorandum, which is incorporated herein by reference. A list of the issues which parties raised, and to which we respond in the Issues and Decision Memorandum, is attached to this notice as Appendix I. The Issues and Decision Memorandum is a public document and is on file electronically via Import Administration's Antidumping and Countervailing Duty Centralized Electronic Service System (“IA ACCESS”). IA ACCESS is available to registered users at http://iaaccess.trade.gov and in the Central Records Unit, room 7046 of the main Department of Commerce building. In addition, a complete version of the Issues and Decision Memorandum can be accessed directly on the Internet at http://www.trade.gov/ia/. The signed Issues and Decision Memorandum and the electronic versions of the Issues and Decision Memorandum are identical in content.

Changes Since the Preliminary Results

The Department has made changes with respect to its treatment of Tai Wa Hong and its affiliates. Specifically, we determine as facts available that we should collapse Tai Wa Hong with two other companies, Tai Wa Commercial & Industrial (Macau) Co. Ltd. (“Tai Wa Commercial”) and Macau Commercial & Industrial Spring Mattress Manufacturer (“Macau Commercial”), and that we should treat this group of companies as a single entity (i.e., the Tai Wa Hong Group).

Use of Facts Available and Adverse Facts Available

As stated in the Preliminary Results, Tai Wa Hong failed to cooperate to the best of its ability in providing requested information, failed to provide the information in a timely manner and in the form requested, and significantly impeded this proceeding.⁹ Accordingly, pursuant to sections 776(a)(2)(A), (B), and (C) and section 776(b) of the Tariff Act of 1930, as amended (“Act”) we find it appropriate to assign total adverse facts available (“AFA”) to Tai Wa Hong.¹⁰ Moreover, as facts available, the Department finds it appropriate to regard Tai Wa Hong as affiliated with Tai Wa Commercial and Macau Commercial, to collapse these three companies, and to treat these companies as a single entity, the Tai Wa Hong Group. Therefore, the Department has assigned the total AFA rate of 234.51% to the Tai Wa Hong Group. Because the Tai Wa Hong Group is located in Macau, it is a third country reseller. Accordingly, this rate only applies to the Tai Wa Hong Group's PRC-origin merchandise.¹¹

⁹ See Preliminary Decision Memorandum at 3-5.

¹⁰ See Certain Frozen Warmwater Shrimp From the Socialist Republic of Vietnam: Preliminary Results of the First Administrative Review and New Shipper Review, 72 FR 10689, 10692 (March 9, 2007) (decision to apply total AFA to the non-market-economy-wide entity), unchanged in Certain Frozen Warmwater Shrimp From the Socialist Republic of Vietnam: Final Results of the First Antidumping Duty Administrative Review and First New Shipper Review, 72 FR 52052 (September 12, 2007).

¹¹ See Comment 1 of the Issues and Decision Memorandum for further discussion on this issue.

Final Results of Review

The dumping margin for the period of review (“POR”) is as follows:

Exporter | Weighted- average dumping margin (percent)
Tai Wa Hong Group | 234.51

Assessment

Pursuant to section 751(a)(2)(A) of the Act and 19 CFR 351.212(b), the Department will determine, and U.S. Customs and Border Protection (“CBP”) shall assess, antidumping duties on all appropriate entries. The Department intends to issue assessment instructions to CBP 15 days after the date of publication of the final results of review. Pursuant to 19 CFR 351.212(b)(1), we calculated importer-specific (or customer) ad valorem duty assessment rates based on the ratio of the total amount of the dumping margins calculated for the examined sales to the total entered value of those same sales.¹² In accordance with 19 CFR 351.106(c)(2), we will instruct CBP to liquidate, without regard to antidumping duties, all entries of subject merchandise during the POR for which the importer-specific assessment rate is zero or de minimis.

¹² In these final results, the Department applied the assessment rate calculation method adopted in Antidumping Proceedings: Calculation of the Weighted-Average Dumping Margin and Assessment Rate in Certain Antidumping Proceedings: Final Modification, 77 FR 8101 (February 14, 2012).

Cash Deposit Requirements

The following cash deposit requirements will be effective upon publication of the final results of this administrative review for all shipments of the subject merchandise from the PRC entered, or withdrawn from warehouse, for consumption on or after the publication date, as provided for by section 751(a)(2)(C) of the Act: (1) For the exporter listed above, the cash deposit rate will be 234.51 percent for its PRC-origin merchandise; (2) for previously investigated or reviewed PRC and non-PRC exporters not listed above that have a separate rate, the cash deposit rate will continue to be the exporter-specific rate published for the most recent period; (3) for all PRC exporters of subject merchandise which have not been found to be entitled to a separate rate, the cash deposit rate will be the PRC-wide rate of 234.51 percent; and (4) for all non-PRC exporters of subject merchandise which have not received their own rate, the cash deposit rate will be the rate applicable to the PRC exporters that supplied that non-PRC exporter. The deposit requirements, when imposed, shall remain in effect until further notice.

Reimbursement of Duties

This notice also serves as a final reminder to importers of their responsibility under 19 CFR 351.402(f) to file a certificate regarding the reimbursement of antidumping duties prior to liquidation of the relevant entries during this POR. Failure to comply with this requirement could result in the Department's presumption that reimbursement of antidumping duties has occurred and the subsequent assessment of doubled antidumping duties.

Administrative Protective Orders

In accordance with 19 CFR 351.305(a)(3), this notice also serves as a reminder to parties subject to administrative protective order (“APO”) of their responsibility concerning the return or destruction of proprietary information disclosed under APO, which continues to govern business proprietary information in this segment of the proceeding. Timely written notification of the return/destruction of APO materials or conversion to judicial protective order is hereby requested. Failure to comply with the regulations and terms of an APO is a violation which is subject to sanction.

We are issuing and publishing this administrative review and notice in accordance with sections 751(a)(1) and 777(i) of the Act.

Dated: March 18, 2013.
Paul Piquado,
Assistant Secretary for Import Administration.

Appendix I

Comment 1: Treatment of the Tai Wa Hong Group's Sales

Comment 2: Cash Deposit and Liquidation Instructions

[FR Doc. 2013-06682 Filed 3-21-13; 8:45 am]

BILLING CODE 3510-DS-P